DEPARTMENT OF COMMERCE

Census Bureau

15 CFR Part 30

[Docket No: 250808-0135]

RIN 0607-AA62

Foreign Trade Regulations (FTR): Clarification of Filing Requirements Regarding In-Transit Shipments and Other FTR Provisions

AGENCY: Census Bureau, Department of Commerce.

ACTION: Final rule.

SUMMARY: The Bureau of the Census (Census Bureau) issues this final rule to clarify its regulations governing in-transit shipments from foreign countries through the United States that are subsequently exported to a foreign destination. Specifically, the final rule addresses the identification of the U.S. Principal Party in Interest (USPPI) in scenarios where goods are entered into the United States for consumption or warehousing and subsequently stored in a warehouse or storage facility, admitted into a Foreign Trade Zone (FTZ), or entered into a bonded warehouse before being exported. The rule establishes clear guidelines for different parties involved in export transactions. For customs brokers serving as the USPPI, the regulation notes obtaining client consent to provide customs entry information for Electronic Export Information (EEI) filing is required per customs regulations. Similarly, when a warehouse, storage facility, FTZ, or bonded warehouse operator acts as the USPPI, they are responsible for the EEI based on information they possess or have received from other parties to the export transaction. Additionally, this final rule revises several regulatory sections, including definitions, mandatory filing requirements, responsibilities of parties to the export transaction, confidentiality protocols, penalty provisions, and voluntary self-disclosure processes to ensure greater clarity, accuracy, and consistency throughout the FTR.

DATES: This final rule is effective September 15, 2025.

FOR FURTHER INFORMATION CONTACT: Epa Uwimana, Chief, Economic Management Division, Census Bureau, 4600 Silver Hill Road, Washington, DC 20233-6010 by email at gtmd.ftrnotices@census.gov.

SUPPLEMENTARY INFORMATION:

Background

The Census Bureau, as delegated by the Secretary of Commerce, is responsible for collecting, compiling, and publishing import and export trade statistics for the United States under the provisions of Title 13, United States Code (U.S.C.), Chapter 9, Section 301(a). Under 13 U.S.C. 302, the Secretary of Commerce is authorized to promulgate regulations necessary or proper to carry out the purposes of and prevent the circumvention of the requirements of Chapter 9 of Title 13. The Secretary also may promulgate regulations covering the confidentiality, publication, and disclosure of information collected under Chapter 9. The Secretary developed the Automated Export System (AES), consistent with Public Law 106-113 and considering the confidentiality requirements of Chapter 9 of Title 13, to collect EEI in concert with the export control and enforcement functions of U.S. Customs and Border Protection (CBP) of the Department of Homeland Security, the Bureau of Industry and Security (BIS) of the Department of Commerce, and the Directorate of Defense Trade Controls (DDTC) of the Department of State.

Public Law 107-228 directed the Secretary to publish regulations requiring exporters to file Shippers' Export Declarations, now referenced as EEI, in the AES. As a result, the Census Bureau is responsible for publishing the FTR that set the export reporting requirements for preparing and filing the EEI in the AES. The EEI is made up of mandatory, conditional, and optional data elements.

Under the aforementioned authorities, the Census Bureau is publishing this final rule.

The Census Bureau has experienced an increase in the number of inquiries regarding in-transit movements and as a result, the USPPI scenarios defined in the FTR have been amended. Specifically, one scenario was added, and two existing scenarios were revised to add clarity.

One of the objectives of this final rule is to revise the FTR to define which party is the USPPI when goods are entered into the United States for consumption or warehousing then stored in a warehouse or storage facility, admitted into an FTZ, or entered into a bonded warehouse before exportation. When these movements occur prior to exportation, the USPPI may be one of the following: a customs broker, or an operator of the warehouse, storage facility, FTZ, or bonded warehouse. When the customs broker is the USPPI and supports the preparation or filing of the EEI with information from the import entry, the customs broker must have consent from the importer of record to disclose confidential information to third parties. When a warehouse, storage facility, FTZ or bonded warehouse operator is the USPPI, they are responsible for the EEI based on information they have or have received from other parties to the export transaction.

The Census Bureau is clarifying the language of the existing mandatory EEI filing requirements for exports subject to the Drug Enforcement Administration regulations. The Census Bureau also is revising the list of information that a USPPI and an authorized agent provide in a routed export transaction. The Census Bureau is also clarifying the filing requirements related to specific data elements and the language regarding AES downtime, confidentiality, penalties, and Voluntary Self-Disclosures. Additionally, the Census Bureau is adding one definition, removing one definition, and revising nineteen other definitions in order to ensure the continued collection of complete, accurate and timely trade statistics. Finally, the Census Bureau is making grammatical and style changes in the FTR. Further background discussing need for this regulation is contained in the proposed rule, 89 FR 86762 (Oct. 31, 2024), and is not repeated here.

The U.S. Department of Homeland Security and the U.S. Department of State concur with the revisions to the FTR as required by Title 13, U.S.C., Section 303, and Public Law 107-228, div. B, title XIV, Section 1404.

Response to Comments

The Census Bureau received 11 letters and emails commenting on the proposed rule. A summary of the comments and the Census Bureau's responses are provided below.

1. Provide resources and training materials to assist with compliance with the FTR. One commenter suggested adding clarity and reducing confusion by providing a consent form template for customs brokers to use to obtain client authorization, examples of U.S. Principal Party in Interest (USPPI) scenarios, a glossary of definitions, guidance on the methods for EEI filing and how a user transitions between those methods, and a detailed user guide or tutorial video to assist with the complex details of the data elements in § 30.6. The Census Bureau currently has resources and training materials available to assist with educating the trade community of the requirements including a glossary of terms in § 30.1(c), a Frequently Asked Questions (FAQ) document that can be amended to add USPPI scenarios, and user guide and video tutorials to address filing in the AES. Additionally, the Census Bureau maintains an International Trade Call Center at 1-800-549-0595 to assist with more complex scenarios. However, the Census Bureau cannot provide a consent form template because the requirement to obtain consent is set by CBP, per 19 CFR 111.24.

2. Amend § 30.1(c) Definitions to ensure clarity. Several commenters suggested the following revisions to the definitions.

(a) Cross reference the definition of “USPPI” with the scenarios for a USPPI listed at § 30.3(b)(2). The Census Bureau agrees and made this change.

(b) Amend the “Ultimate Consignee” definition to: include that it is the party who ultimately receives the goods, as known at the time of export; amend the reference to the forwarding agent to foreign forwarding agent; and amend the term intermediary. The Census Bureau agrees and made this change.

(c) Amend the definition of “Buyer (purchaser)” to state that the goods are purchased from the U.S. Seller. The Census Bureau agrees and made this change.

(d) Amend the definition of “Order Party” to be consistent with § 30.2(b)(2)(iii) where the USPPI scenario of an order party is described. The Census Bureau agrees and changed the definition to reference § 30.2(b)(2)(iii) to ensure consistency with the USPPI scenario for an order party.

(e) Amend the definition of “Filer” to state that the authorized agent or USPPI is authorized to submit the EEI. This will help clarify that a USPPI must be authorized in a routed export transaction to file. The Census Bureau agrees with amending the definition of Filer; however, we expect to address this in a future routed rule, which will involve additional coordination between the Bureau of Industry and Security and the Census Bureau to ensure consistency between the Export Administration Regulations and FTR.

(f) Define the terms “Warehouse” and “Storage Facility” and the distinction between the two terms. The terms “Warehouse” and “Storage Facility” are commonly understood terms. While adding definitions could help distinguish between them, the Census Bureau has concluded that such definitions are unnecessary since these terms are used in their ordinary, plain meaning within this context.

Amend § 30.2(d)(1) to clarify that admissions into bonded warehouse/facilities and in-bond movements are not impacted by the proposal. One commenter was concerned that the proposed change to § 30.2(d)(1) may impact their use of the exclusion in that subsection. The Census Bureau's revised language to § 30.2(d)(1) does not impact the use of this exclusion, which remains solely for goods originating from a foreign country that move in-transit through the United States and are subsequently exported and are not entered into the commerce of the United States for consumption or warehousing. An existing FAQ addresses such shipments to provide additional clarity.

Amend § 30.3(b)(2) Parties to the Export Transaction, USPPI to ensure clarity. One commenter suggested removing the new proposed scenarios. Several commenters suggested revising the language in this section to be more precise as follows.

(a) Amend § 30.3(b)(2) to add that a USPPI must be aware that its Employer Identification Number (EIN) is being reported by an authorized agent prior to the filing of an EEI. In response to this concern the Census Bureau revised a note to § 30.3(e)(2) indicating that the authorized agent should not report information without first obtaining it from the USPPI directly and the parties to the export transaction should have continuous communication.

(b) Amend § 30.3(b)(2) to include a new USPPI scenario of U.S. Entity with Legal Authority to be consistent with the EAR's definition of exporter. Based on outreach and communication with stakeholders and our needs as a statistical agency, the Census Bureau has determined that the proposed language remains appropriate, the new and existing USPPI scenarios are sufficient, and the addition of a U.S. Entity with Legal Authority is not necessary.

(c) Amend § 30.3(b)(2)(i), (ii), or (iii) to include the term “or other foreign party” following “FPPI” and replace FPPI with “foreign person.” The Census Bureau determined that the proposed language remains appropriate. When the USPPI sells goods directly to a foreign person, that person is the FPPI by definition. The Census Bureau will not replace “FPPI” with “foreign person” because the actions and roles of a “foreign person” would have to be consistently defined in the context of the subsection, which is unnecessary when FPPI is a specific term defined in the FTR to be used throughout the regulations in scenarios like this.

(d) Amend the note to § 30.3(b)(2)(iv) by simplifying the language pertaining to the responsibility of a customs broker to obtain consent from its client. The Census Bureau agrees and made this change.

(e) Amend § 30.3(b)(2)(v) by expanding the text to include a bonded warehouse in addition to an FTZ. The Census Bureau determined that the proposed language remains appropriate. This scenario was added to be specific to FTZs. Bonded warehouses are separately covered by § 30.3(b)(2)(iv).

(f) Amend § 30.3(b)(2)(v) to ensure the definition of an FTZ operator is consistent with CBP's regulations. Additionally, clarify that the USPPI may not always be the exporter as defined in the Export Administration Regulations (EAR). The Census Bureau has made the change to ensure the definition of an FTZ operator is consistent with CBP's regulations. However, the Census Bureau did not incorporate the reference to the EAR as recommended because the reference is already incorporated into the Note to § 30.3.

(g) Amend § 30.3(b)(2)(v) by changing “shall” to “may” so the operator may opt out of being the USPPI. The Census Bureau disagrees with changing “shall” to “may” because operators do not have the flexibility to decline to be the USPPI. Instead, the Census Bureau edited § 30.2(b)(iv) to allow the customs broker to retain the role and responsibilities of the USPPI if they choose to do so.

(h) Remove the additional USPPI scenarios added to § 30.3(b)(2) because the proposal will make arranging routed export transactions more difficult, protracted, tedious, and frustrating. The Census Bureau has determined that the proposed language remains appropriate, in part because the proposed revisions were broadly supported by other public comments.

(i) Amend the Automated Commercial Environment (ACE) authorization check when the customs broker acts as the USPPI. The Census Bureau has determined this comment is outside the scope of this rule.

Amend § 30.3(b) to include a statement that the USPPI will reasonably rely on information provided by other parties who have actual knowledge of the goods. Five commenters stated the USPPIs in the new scenarios may not have complete knowledge of the goods, including the export control requirements. Two commenters also requested that the Census Bureau amend its civil penalty provisions in Subpart H by acknowledging that the USPPI relies on other parties who have the actual knowledge of the merchandise being exported. The Census Bureau agrees that the new parties listed in the USPPI scenarios under § 30.3(b)(2) may not always have all the information available to comply with the FTR. Therefore, the Census Bureau amended § 30.3(c)(1)(i) to clarify that the USPPI may receive the information from other parties to the export transaction. The Census Bureau will continue to work with the CBP on their EEI penalty mitigation guidelines.

6. Amend the FTR by making changes to the routed export transaction provisions in § 30.3(e). Several commenters stated that the Census Bureau was missing an opportunity to make changes to the routed export transaction definition and requirements. The Census Bureau agrees that changes to the FTR related to routed export transactions are needed. The Census Bureau and the BIS are working in partnership to update the FTR and EAR and will address the routed and standard export transaction requirements in their respective rules. Both the Census Bureau and the BIS must publish their respective rules concurrently because the FTR addresses the filing requirements related to routed export transactions while the EAR addresses the export control and licensing requirements.

7. Amend § 30.3(e)(2) by removing the term “exactly.” Two commenters suggested the removal of this term because the USPPI may not “exactly” provide terms in the reporting instructions, such as codes in the AES appendices and the value, which may not include insurance and freight. The Census Bureau disagrees. The term “exactly” was added to prevent an authorized agent from reporting different information on the EEI than the information on the reporting instructions. To address the concern that the USPPIs may not have complete information, the Census Bureau included a note to § 30.3(e)(2) that states the authorized agent and parties to the export transaction should have continuous communication to ensure the reporting of accurate, complete, and timely information.

8. Amend § 30.6(a)(3) and (b)(2) by removing the proposed changes to the ultimate consignee and intermediate consignee data elements, respectively. One commenter suggested that if the Census Bureau is attempting to capture the end user, it should create an end user field. The Census Bureau disagrees, and notes the changes better clarify that an ultimate consignee may be an end user if the information is known at the time of exportation. Statistically, the Census Bureau receives what it needs in the ultimate consignee field and does not need to contemplate the addition of a new data element.

Another commenter suggested leaving in the language referring to consistency with the export licenses in the ultimate and intermediate consignee descriptions in § 30.6(a)(3) and (b)(2), respectively. The Census Bureau disagrees. The rule removes references to the export license because there are certain scenarios where the end user on the license is known at the time of export and the ultimate consignee and intermediate consignee reported on the EEI may be the end user and ultimate consignee on the license, respectively.

9. Amend the FTR by eliminating the state of origin data element in § 30.6(a)(4). Two commenters suggested the removal of the state of origin as a data element because it is duplicative of the state code in the USPPI address under § 30.6(a)(1)(ii). The Census Bureau agrees that the data element is duplicative but has taken steps to first research the impact of the removal of state of origin and ensure data is being reported accurately rather than removing it at this time. Similar comments were first provided in the 2019 Office of Management and Budget (OMB) clearance package and as a result, the Census Bureau implemented a series of AES response messages. We continue to research how the elimination of the state of origin, if implemented, will impact statistical releases and our data users.

10. Amend the Automated Export System Trade Interface Requirements (AESTIR) to expand the commodity description (referenced in § 30.6(a)(13)) from its current limitation of 45 characters. One commenter suggested that the length of the commodity description field is too short. The Census Bureau held previous discussions with the trade community and CBP where it was determined that major reprogramming of the AES Commodity Record Format in the AESTIR would be required to provide more space in this field. We will keep a record of this comment for potential future research.

11. Amend § 30.6(b)(13) by removing the requirement to use the entry number and Foreign Trade Zone Admission Number to link the export to the import for the purpose of collecting the country of origin. One commenter noted that if the entry number is collected, the information should be used to support automatic drawback claims, which would be a tangible benefit to exporters. However, several commenters stated that there are costs and operational challenges, such as software system limitations, to identifying a one-to-one relationship between the admission of goods to an FTZ and the entire shipment of goods exported. Additionally, commentors stated that the trade community involved in FTZ warehousing lack the information technology systems to comply with the proposal. These commenters added that obtaining the country of origin from an entry number at the shipment level of the export may result in inaccurate data. Some commenters suggested the Census Bureau instead require a country of origin data element and allow the trade ample time to absorb this change, which the Census Bureau initially presented in a proposed rule published December 2021 (86 FR 71187 (Dec. 15, 2021)). At that time, commenters suggested that the Census Bureau research how to make linkages with the data it already collects for import rather than add a country of origin data element, which the agency did. That examination led to the proposal to use entry number to obtain the country of origin from the import data. However, the Census Bureau agrees with commenters on this proposed rule that filers would face challenges to reporting the entry number as proposed and critical data could be missed. Additionally, the Census Bureau changed the requirements for entry number to clarify what must be reported for each in-bond type code.

Furthermore, the Census Bureau agrees with commentors who recommended the collection of the country of origin data element in place of the entry number. Based on the comments received, the Census Bureau has determined it will collect country of origin, but will issue a future rule related to the implementation of it.

12. Amend § 30.10(a) by revising the note to include examples of “official purposes.” One commenter suggested that since the phrase “non-official purposes” is used in the note to § 30.10(a), the Census Bureau should also provide examples of “official purposes.” The Census Bureau has changed the proposed language to remove “non-official purpose” in the note to § 30.10(a) because a foreign person may never have the EEI for any purpose.

13. Amend the FTR by implementing a new Export Information Code (EIC) for exports originating from in-transit movements. One commenter suggested developing a new process where the filer reports a new EIC for in-transit movements originating from a foreign country where certain data elements are not required, such as the USPPI name. The Census Bureau disagrees. The USPPI name is a mandatory data element required for statistical purposes by the Census Bureau and export enforcement purposes by other federal agencies to fulfill their respective statutory requirements.

14. Amend Appendix C table to clarify the responsible party for reporting the EEI data elements for routed export transactions. Several commenters suggested amendments to the title and content of Appendix C to provide references to the AESTIR. Additionally, commenters requested that (1) the responsibility for providing the ultimate consignee type be assigned to the USPPI and (2) the Kimberley Process Certificate (KPC) and filing option indicator be removed from the required EEI data elements for routed export trade. The Census Bureau agrees and changed the table in Appendix C to remove KPC. However, for the ultimate consignee type, filing option indicator, and references to the AESTIR, the Census Bureau did not make the requested changes. Regarding the ultimate consignee type and filing option indicator, the authorized agent is in the best position to provide the primary business function of the ultimate consignee and whether it is filing predeparture or postdeparture. References to the AESTIR were not added because CBP maintains the AESTIR, which would require the Census Bureau to make regulatory updates anytime the AESTIR is changed.

15. Clarify that the proposed changes could increase compliance burden and cost. One commenter stated that businesses handling specific types of goods including perishable goods, pharmaceuticals, high-value electronics, and hazardous materials would be burdened by these proposed requirements because of the delay in export clearance. The Census Bureau believes that the proposed changes add more clarity and practical solutions to existing provisions, which reduces ambiguity and, therefore, filing time and errors that delay export clearance.

16. Other Comments in Support of the Proposed Rule.

(a) One commenter supported the proposed designation of a customs broker or storage facility as the USPPI when goods are previously imported and stored in a warehouse, asserting that doing so would streamline the export process and ensure clarity in determining the responsible party.

(b) One commenter supported adding additional data elements accessible by the USPPI in routed export transactions and listed in Appendix C. Adding more data elements visible to the USPPI enables identification and monitoring of orders effectively, ensures oversight of shipments, and leads to improved compliance and operational efficiency.

(c) One commenter supported ACE account deactivation for AES filers who remain unresponsive to requests for updating or correcting EEI or responding to inquiries from the federal government. The commenter added that it is essential to give filers ample opportunity to rectify the situation before deactivation occurs.

Changes From the Proposed Rule

After consideration of the comments received, the Census Bureau revised, removed, or added certain provisions in the Final Rule to address the concerns of commenters and to clarify the requirements of the rule as discussed in the section “Response to Comments” above. Additional changes made in this Final Rule are as follows:

• Section 30.1(c) is amended to revise the definitions for “Buyer (purchaser)”, “Country of ultimate destination”, “Export statistics”, “Foreign goods”, “Foreign port of unlading”, “Forwarding agent”, “Intermediate consignee”, “Order party”, “Ultimate consignee”, and “U.S. Principal Party in Interest (USPPI)”.

• Section 30.2(a)(2) is amended by removing a space between AES and Direct and closing the parentheses after cbp.gov.

• Section 30.2(d)(5) is amended to revise the exclusion for exports where the country of destination is the United States and exports to international waters where the goods are controlled by a United States entity.

• Section 30.3 is amended to remove the description of a standard export transaction because this term is expected to be added in a future proposed rule including standard and routed export transactions.

• Section 30.3(a) is amended to separate the first requirement from the title.

• Section 30.3(a)(3) is amended by adding a comma after “accurate” in the first sentence.

• Section 30.3(b)(2)(iv) is amended to clarify that a customs broker may be the USPPI after thirty (30) calendar days of import if they choose to be.

• The Note to Section 30.3(b)(2)(iv) is amended to simplify the language that a customs broker must have consent from the importer of record to disclose confidential information to third parties.

• Section 30.3(b)(2)(v) is amended to refer to CBP's definition of an “operator” as defined in 19 CFR 146.1 for the purposes of identifying an FTZ operator.

• Section 30.3(c)(1)(i) is amended to clarify that the information that a USPPI is responsible for is based on information that the USPPI has or has received from other parties to the export transaction.

• Section 30.3(e)(1) is amended to clarify that the USPPI provides the agent with information based on information the USPPI has or has received from other parties to the export transaction.

• The Note to Section 30.3(e)(1) is revised to reference 15 CFR 758.3 of the Export Administration Regulations to determine the responsibility of export control data elements in Appendix C when the FPPI has assumed export control responsibilities.

• Section 30.3(e)(2) is amended by adding a comma after “accurate.”

• The Note to Section 30.3(e)(2) was revised to clarify that an authorized agent should not report information that is the responsibility of the USPPI without obtaining it from the USPPI directly, and to clarify that continuous communication between the authorized agent and other parties to the export transaction is necessary to ensure accurate, complete and timely reporting.

• Section 30.4(f)(1) is amended to add a reference to publicly available information on the AES filing methods, and to reference § 30.5(f) for support during downtime.

• Section 30.5(d)(2) is amended to change “Title 13” to “EEI” to specify that the integrity and confidentiality requirements relate to the EEI rather than Title 13 more broadly.

• Section 30.5(f) is amended to update contact information.

• Section 30.6(a)(11) is amended to add a section symbol before § 30.1(c).

• Section 30.6(b)(2) is amended to add “foreign” to clarify that the intermediate consignee is a foreign forwarding agent or other person and to clarify the intermediate consignee takes physical possession.

• Section 30.6(b)(4) is amended to add “ultimate” to be consistent with the term “country of ultimate destination” as defined in § 30.1(c).

• Section 30.6(b)(5) is amended to provide a reference to the Kimberley Process Certificate requirements.

• Section 30.6(b)(13) is amended to clarify that the entry number is required when goods of foreign origin enter into the U.S. for warehousing (entered into a bonded warehouse) or are admitted into a FTZ.

• Section 30.6(b)(17) is removed because the Kimberley Process Certificate is already included in § 30.6(b)(5), Export license number/CFR citation/KPC number.

• Section 30.8 is amended to better clarify that proof of filing, postdeparture, and downtime require presentation of citations and an exclusion or exemption involves legends.

• The Note to Section 30.10(a) is amended to remove “for nonofficial purposes” and replace with the specific nonofficial purpose “to a foreign person or foreign government”.

• Section 30.26(b) is amended to add “ultimate” to be consistent with the term “country of ultimate destination” as defined in § 30.1(c).

• Section 30.29(a)(1) and (2) is amended to clarify what the value reported must include.

• Section 30.36(b) is amended to remove redundant references to the mandatory filing requirements, which were already identified in § 30.36(a).

• FTR Appendix C to Part 30 is amended to revise the title to Party Responsibilities for Data Elements in Routed Export Transactions and remove the Kimberley Process Certificate from the responsibility of the USPPI because this data element is already included in § 30.6(b)(5), Export license number/CFR citation/KPC number.

Revisions Unchanged From the Proposed Rule

In addition to the above changes, this final rule amends relevant sections of the FTR to comply with the requirements of the Foreign Relations Act, Public Law 107-228 consistent with the changes set forth in the proposed rule:

• Revise § 30.1(c) by amending the definitions for “Commerce Control List (CCL)”, “End user”, “Filer”, “Foreign Principal Party in Interest (FPPI)”, “Person”, “Seller”, “Shipment”, “Shipping documents”, and “Voluntary Self-Disclosure (VSD)”. Additionally, add the definition for “Conveyance” and remove the definition for “Consignee”.

• Revise § 30.2(a)(1)(iv)(D) by amending the Drug Enforcement Administration's authorization to require EEI filing in the AES for all licenses and permits under 21 CFR 1300 through 1399.

• Revise § 30.2(d)(1) by amending the language to clarify that EEI filing is excluded when goods are moving in-transit through the United States, Puerto Rico, or the U.S. Virgin Islands from one country or area to another where such goods do not enter the United States for consumption or warehousing.

• Revise § 30.2(d)(4) by removing the reference to the exemption in § 30.39 as the exclusion overrides the exemption.

• Revise § 30.3 by adding introductory text that states international commercial terms, terms of sale, and industry or other agreements do not determine the type of or parties to the export transaction.

• Revise § 30.3(a) by replacing “General requirements” with “General filer requirements” and to include specific subparagraphs designated as (a)(1) that the filer is a USPPI or authorized agent, (a)(2) that the filer must be located physically in the United States when filing the EEI, and (a)(3) that the EEI must be filed completely, accurately, and timely.

• Revise § 30.3(b)(2) by removing the foreign entity as the USPPI because it has been added as a scenario in this section.

• Revise § 30.3(b)(iv) by amending to combine the existing language in § 30.3(b)(2)(iv) and (v), add a time frame from when the customs broker clears goods into the United States for consumption or warehousing, and clarify who the USPPI is in the scenario.

• Revise § 30.3(b)(iv) by adding a Note that reminds the customs broker to obtain consent from its client when the information from the customs entry is used to prepare and file the EEI as required under CBP regulations, 19 CFR 111.24.

• Revise § 30.3(b)(2)(v) to identify the USPPI as a person who admits goods into an FTZ or the FTZ operator.

• Revise § 30.3(b)(2)(vi) to add a USPPI scenario when the foreign entity is in the United States when the goods are purchased or obtained for export.

• Revise § 30.3(d)(4) by adding postdeparture, downtime, and exclusion to the list of citations.

• Revise § 30.3(e)(1) and § 30.3(e)(2) by removing the subparagraphs that list the data elements the USPPI provides to the authorized agent to assist in the preparation and filing of the EEI and the list of data elements the authorized agent must provide to the USPPI upon request, and replace the references to those lists with Appendix C.

• Revise § 30.4(b)(1) to remove references to the downtime procedures.

• Revise § 30.4(b)(4) by amending to replace with the existing language in § 30.4(b)(5) regarding EEI filing time frames for the export of used self-propelled vehicles.

• Remove § 30.4(b)(5).

• Revise § 30.4(c)(2) to replace the term “consignee” with “ultimate consignee”.

• Revise § 30.4(f) by adding the downtime procedures.

• Revise § 30.6(a)(1) to remove examples of the USPPI from the USPPI data element description, rename the “Address of the USPPI” to “Address of origin”, and revise the USPPI Address of origin example.

• Revise § 30.6(a)(3) to provide examples of the ultimate consignee based on knowledge at the time of export.

• Revise § 30.6(a)(4) by amending the U.S. state of origin example.

• Revise § 30.6(a)(11) to refer to § 30.1(c) for detailed definitions of foreign and domestic goods.

• Revise § 30.6(b)(2) to clarify that the intermediate consignee must physically take possession of the goods.

• Revise § 30.6(b)(4) to clarify that the foreign port of unlading is the location where the goods are removed from the exporting conveyance.

• Revise § 30.6(b)(6) to provide a reference to § 758.1(g) of the EAR to clarify the ECCN reporting requirements.

• Revise § 30.6(b)(13) to clarify that the customs broker shall provide the entry number, when required, to assist in the preparation of the EEI.

• Revise § 30.10 by amending paragraph (a) and adding a Note to paragraph (a).

• Revise the introductory text to § 30.17 remove the reference to the U.S. Government Printing Office website.

• Revise § 30.18(c) to remove the reference to the Department of State website.

• Revise § 30.26(b) by replacing “sold foreign” with “exported for sale” to be clear that the goods were exported as a result of a sale.

• Revise § 30.29(a)(1) and (a)(2) to add a reference to § 30.53 to clarify the import reporting requirements for repairs.

• Revise § 30.37(a) by amending the first sentence to be consistent with the revised “Shipment” definition in § 30.1(c), specifically that the goods are shipped to an ultimate consignee.

• Revise the introductory text of § 30.51 to update the reference to the CBP website.

• Revise the introductory text of § 30.52 to update the reference to the CBP website.

• Revise § 30.60(c)(1) to amend by combining the existing language in (c)(1) and (c)(2) to clarify that the EEI may not be used for tax purposes unless otherwise noted.

• Revise § 30.60(c)(2) to add language to prohibit the use of EEI for export marketing and promotion unless otherwise noted.

• Revise § 30.60(c)(4) to amend “foreign entities” to “foreign persons” as “person” is a broader term.

• Revise § 30.71(a)(2) by amending the language to add that deactivation of a filer's account may be a penalty if the filer furthers illegal activity.

• Revise § 30.74(b)(4) and (d) to clarify that foreign persons may not submit a Voluntary Self-Disclosure and to amend the Census Bureau's actions when responding to a Voluntary Self-Disclosure.

• Revise § 30.74(d) by removing paragraphs (1) through (3) as the content is now contained in § 30.74(d).

• Revise FTR Appendix B to Part 30—AES Filing Citation, Exemption and Exclusion Legends to replace X. with Miscellaneous Exclusion Statements and move Split Shipments to XI.

• Add FTR Appendix C to Part 30—Required Data Elements—Routed Export Transactions to include the data elements that the USPPI and authorized agent are responsible for in a routed export transaction.

Classification

Regulatory Flexibility Act

The Chief Counsel for Regulation of the Department of Commerce certified to the Chief Counsel for Advocacy of the Small Business Administration (SBA) that this rule will not have a significant impact on a substantial number of small entities. The factual basis for this determination was published in the proposed rule and is not repeated here. No comments were received regarding this certification. As a result, a regulatory flexibility analysis was not required, and none was prepared.

Executive Orders

This rule has been determined to be not significant for purposes of Executive Order 12866. This final rule is not an Executive Order 14192 regulatory action because this action is not significant under Executive Order 12866. This rule does not contain policies with federalism implications as that term is defined under Executive Order 13132.

Paperwork Reduction Act

Notwithstanding any other provision of law, no person is required to respond to, nor shall a person be subject to a penalty for failure to comply with, a collection of information subject to the requirements of the Paperwork Reduction Act (PRA), unless that collection of information displays a current and valid OMB control number. This rule contains a collection-of-information subject to the requirements of the PRA (44 U.S.C. 3501 et seq.) and has been approved under OMB control number 0607-0152.

List of Subjects in 15 CFR Part 30

Economic statistics, Exports, Foreign trade, Reporting and recordkeeping requirements.

For the reasons set out in the preamble, the Census Bureau is amending 15 CFR part 30 as follows:

PART 30—FOREIGN TRADE REGULATIONS

1. The authority citation for part 30 continues to read as follows:

Authority: 5 U.S.C. 301; 13 U.S.C. 301-307; Reorganization plan No. 5 of 1990 (3 CFR 1949-1953 Comp., p. 1004); Department of Commerce Organization Order No. 35-2A, July 22, 1987, as amended, and No. 35-2B, December 20, 1996, as amended; Pub. L. 107-228, 116 Stat. 1350.

2. Amend § 30.1(c) by:

a. Revising the definitions for “Buyer (purchaser)” and “Commerce Control List (CCL)”;

b. Removing the definition for “Consignee”;

c. Adding, in alphabetical order, the definition for “Conveyance”; and

d. Revising the definitions for “Country of ultimate destination”, “End user”, “Export statistics”, “Filer”, “Foreign goods”, “Foreign port of unlading“, “Foreign Principal Party in Interest (FPPI)”, “Forwarding agent”, “Intermediate consignee”, “Order party”, “Person”, “Seller”, “Shipment”, “Shipping documents”, “Ultimate consignee”, “U.S. Principal Party in Interest (USPPI)”, and “Voluntary Self-Disclosure (VSD)”.

The revisions and additions read as follows:

§ 30.1 Purpose and definitions.

* * * * *

(c) * * *

Buyer (purchaser). The person located abroad in the export transaction that purchases the goods from the U.S. seller for delivery to the ultimate consignee. The buyer (purchaser) and ultimate consignee may be the same.

* * * * *

Commerce Control List (CCL). A list of items found in Supplement No. 1 to Part 774 of the Export Administration Regulations (EAR). Supplement No. 2 to Part 774 of the EAR contains the General Technology and Software Notes relevant to entries contained in the CCL.

* * * * *

Conveyance. The actual aircraft, vessel, railcar, truck, and other means of transport used to transport goods from one place to another. See § 30.6(a)(7).

* * * * *

Country of ultimate destination. The country where the goods are to be consumed, further processed, stored, or manufactured, as known to the USPPI at the time of export. See § 30.6(a)(5).

* * * * *

End user. The person located abroad who receives and ultimately uses the exported, reexported or transferred (in-country) items. The end user is not an authorized agent or intermediary but may be the FPPI or ultimate consignee.

* * * * *

Export statistics. The measure of quantity and value of goods (except for shipments to U.S. military forces overseas) moving out of the United States to foreign countries, whether such goods are exported from within the Customs territory of the United States, a bonded warehouse, or a U.S. Foreign Trade Zone (FTZ).

* * * * *

Filer. The USPPI or an authorized agent who is responsible for submitting the Electronic Export Information (EEI) in the Automated Export System (AES).

* * * * *

Foreign goods. Goods that were originally grown, produced, or manufactured in a foreign country, then subsequently entered into the United States, admitted to a U.S. FTZ, or entered into a bonded warehouse, but not substantially transformed in form or condition by further processing or manufacturing in the United States, U.S. FTZs, Puerto Rico, or the U.S. Virgin Islands.

* * * * *

Foreign port of unlading. The port in a foreign country where the goods are removed from the exporting conveyance. The foreign port does not have to be located in the country of ultimate destination. The foreign port of unlading shall be reported in terms of Schedule K, “Classification of CBP Foreign Ports by Geographic Trade Area and Country.”

* * * * *

Foreign Principal Party in Interest (FPPI). The person located abroad who purchases the goods for export or to whom final delivery of the goods will be made. This party may be the ultimate consignee, buyer (purchaser), or end user.

* * * * *

Forwarding agent. The person who is selected by the principal party in interest to facilitate the movement of the cargo from the United States to the foreign destination.

* * * * *

Intermediate consignee. The person located abroad who acts as an agent for the principal party in interest and takes physical possession of the goods for the purpose of effecting delivery of goods to the ultimate consignee. The intermediate consignee may be a foreign forwarding agent or other person who acts as an agent for a principal party in interest.

* * * * *

Order party. The person in the United States who conducts the direct negotiations or correspondence with the buyer (purchaser) or ultimate consignee and who, as a result of these negotiations, receives the order from the FPPI. See § 30.3(b)(2)(iii) of the FTR.

* * * * *

Person. Any natural person, corporation, partnership, or other legal entity of any kind, domestic or foreign.

* * * * *

Seller. A person in the transaction, usually the manufacturer, producer, wholesaler, or distributor of the goods, that receives the monetary benefit or other consideration for the exported goods.

* * * * *

Shipment. All goods being sent from one USPPI to one ultimate consignee located in a single country of destination on a single conveyance and departing from the United States on the same day. Except as noted in § 30.2(a)(1)(iv), the EEI shall be filed when the value of the goods is over $2,500 per Schedule B or HTSUSA commodity classification code.

* * * * *

Shipping documents. Documents that include but are not limited to commercial invoices, export shipping instructions, packing lists, bills of lading and air waybills.

* * * * *

Ultimate consignee. The person located abroad who ultimately receives the export shipment, as known at the time of export. The ultimate consignee is not a foreign forwarding agent or intermediate consignee, but may be the FPPI, buyer (purchaser), or end user.

* * * * *

U.S. Principal Party in Interest (USPPI). The person in the United States that receives the primary benefit, monetary or otherwise, from the export transaction. See § 30.3(b)(2).

* * * * *

Voluntary Self-Disclosure (VSD). A narrative account with supporting documentation that sufficiently describes suspected violations of the FTR. A VSD reflects due diligence in detecting and correcting potential violations when required information was not reported or when incorrect information was provided that violates the FTR.

* * * * *

3. Amend § 30.2 by revising (a)(1)(iv)(D), (a)(2), (d)(1), (d)(4), and (d)(5).

The revisions read as follows:

§ 30.2 General requirements for filing Electronic Export Information (EEI).

(a) * * *

(1) * * *

(iv) * * *

(D) Requiring a Department of Justice, Drug Enforcement Administration (DEA) export permit or declaration (21 CFR 1300 through 1399).

* * * * *

(2) Filing methods. The USPPI has four means for filing EEI: use AESDirect; develop AES software using the AESTIR (see AESTIR Introduction and Guidelines | U.S. Customs and Border Protection (cbp.gov)); purchase software developed by certified vendors using the AESTIR; or use an authorized agent. An FPPI can only use an authorized agent in a routed transaction.

* * * * *

(d) * * *

(1) Goods moving in-transit through the United States, Puerto Rico, or the U.S. Virgin Islands from one foreign country or area to another where such goods do not enter into the United States for consumption or warehousing.

* * * * *

(4) Goods shipped to Guantanamo Bay Naval Base in Cuba from the United States, Puerto Rico, or the U.S. Virgin Islands and from Guantanamo Bay Naval Base to the United States, Puerto Rico, or the U.S. Virgin Islands.

(5) Goods licensed by a U.S. federal government agency where the country of ultimate destination is the United States, or goods destined to international waters where the person(s) or entity assuming control of the item(s) is a citizen or permanent resident alien of the United States or a juridical entity organized under the laws of the United States or a jurisdiction within the United States.

* * * * *

4. Amend § 30.3 by:

a. Adding introductory text to § 30.3;

b. Revising the section heading for paragraph (a);

c. Adding paragraphs (a)(1) through (3);

d. Revising paragraphs (b)(1), (b)(2), (b)(2)(i), (b)(2)(ii), and (b)(2)(iv);

e. Adding a Note to (b)(2)(iv);

f. Revising (b)(2)(v);

g. Adding (b)(2)(vi);

h. Revising (d)(4) and (e)(1);

i. Removing paragraphs (e)(1)(i) through (xii);

j. Revising the Note to paragraph (e)(1);

k. Removing paragraphs (e)(2)(i) through (xv); and

l. Revising the Note to paragraph (e)(2).

The revisions and additions read as follows:

§ 30.3 Electronic Export Information filer requirements, parties to export transactions, and responsibilities of parties to export transactions

All parties that participate in an export transaction subject to the FTR must comply with the FTR. There are two types of export transactions: standard and routed. International commercial terms, terms of sale, and industry or other agreements do not determine the type of or parties to the export transaction, as they have no regulatory basis.

(a) General filer requirements.

(1) The filer of EEI for export transactions is either the USPPI or the authorized agent. If a foreign entity is the USPPI, they are prohibited from filing the EEI and must authorize an agent to file on their behalf.

(2) The filer shall maintain a physical office or residence in the United States, be physically located in the United States at the time of preparing and filing the EEI, and have an EIN or DUNS and be certified to report in the AES. If the filer does not have an EIN or DUNS, the filer must obtain an EIN from the Internal Revenue Service.

(3) All EEI submitted to the AES shall be complete, accurate, and timely. The filer is responsible for ensuring that the EEI is complete, accurate, and timely, except insofar as that party can demonstrate that it reasonably relied on information based on personal knowledge of the facts and information furnished by other responsible persons participating in the transaction. All parties involved in export transactions, including authorized agents, should be aware that invoices and other commercial documents may not necessarily contain all the information needed to prepare and file the EEI.

(b) * * *

(1) Principal parties in interest. Those persons in a transaction that receive the primary benefit, monetary or otherwise, are considered principal parties to the transaction. Generally, the principal parties in interest in a transaction are the seller and buyer. In most cases, the U.S. forwarding or other agent is not a principal party in interest.

(2) USPPI. For purposes of filing EEI, the USPPI is the person in the United States that receives the primary benefit, monetary or otherwise, from the transaction. Below are scenarios where the USPPI is identified:

(i) If a U.S. manufacturer sells the goods for export directly to a FPPI, the U.S. manufacturer shall be listed as the USPPI in the EEI.

(ii) If a U.S. manufacturer sells goods, as a domestic sale, to a U.S. buyer (wholesaler/distributor) and that U.S. buyer sells the goods for export to a FPPI, the U.S. buyer shall be listed as the USPPI in the EEI.

* * * * *

(iv) If a customs broker or foreign person is listed as the importer of record when entering goods into the United States, the customs broker shall be listed as the USPPI in the EEI if the goods are being exported without change or enhancement in thirty (30) calendar days or less of import. After thirty (30) calendar days, if the customs broker decides to retain the USPPI responsibilities, then they shall continue to be listed as the USPPI in the EEI; otherwise, the warehouse or storage facility in possession and with knowledge and control of the goods when the goods begin their journey to the port of export shall be listed as the USPPI in the EEI.

Note to paragraph § 30.3(b)(2)(iv) of this section: The U.S. Customs and Border Protection regulations (19 CFR 111.24) state that the import entry records pertaining to the business of the clients serviced by the customs broker are to be considered confidential. If applicable, when the customs broker supports the preparation or filing of the EEI with information from the import entry, the customs broker must have consent from the foreign importer of record to disclose confidential information to third parties.

(v) If a U.S. person admits goods into a Foreign Trade Zone (FTZ), then the U.S. person shall be listed as the USPPI in the EEI if the goods are subsequently exported without change or enhancement. If a foreign person admits goods into an FTZ, then the FTZ operator as defined in 19 CFR 146.1 shall be listed as the USPPI in the EEI if the goods are subsequently exported without change or enhancement.

(vi) If the foreign entity is in the United States at the time the goods are purchased or obtained for export, the foreign entity shall be listed as the USPPI in the EEI. The foreign entity is prohibited from filing the EEI; therefore, they must authorize an agent to comply with the provisions of the FTR.

* * * * *

(c) * * *

(1) * * *

(i) The USPPI can prepare and file the EEI itself, or it can authorize an agent to prepare and file the EEI on its behalf. If the USPPI prepares the EEI itself, the USPPI is responsible for the accurate and timely transmission of all the export information reported to the AES based on information it has or has received from other parties to the transaction to support the preparing or filing of the EEI, such as export control requirements.

* * * * *

(d) * * *

(4) Providing the exporting carrier with the proof of filing, postdeparture, downtime, exclusion, or exemption citations in accordance with provisions and requirements contained in this part.

* * * * *

(e) * * *

(1) USPPI responsibilities. In a routed export transaction, the FPPI may authorize or agree to allow the USPPI to prepare and file the EEI. If the FPPI agrees to allow the USPPI to file the EEI, the FPPI must provide a written authorization to the USPPI assuming the responsibility for filing. If the FPPI agrees to allow the USPPI to file EEI, the filing of the export transaction shall be treated as a routed export transaction. The USPPI shall retain documentation to support the EEI filed. The USPPI may authorize an agent to file the EEI on its behalf, and both the USPPI and its authorized agent shall retain documentation to support the EEI filed. If the FPPI authorizes an agent to prepare and file the EEI, the USPPI shall retain documentation to support the information provided to the agent for preparing the EEI as specified in § 30.10 and provide the agent with complete, accurate, and timely export information it has or has received from other parties to the transaction necessary to prepare and file the EEI as set forth in Appendix C.

Note to paragraph (e)(1) of this section: For items in Appendix C, where the FPPI has assumed responsibility for determining and obtaining license authority, see requirements set forth in 15 CFR 758.3 of the EAR.

(2) Authorized agent responsibilities. In a routed export transaction, if an authorized agent is preparing and filing the EEI on behalf of the FPPI, the authorized agent must obtain a power of attorney or written authorization from the FPPI and shall be responsible for preparing and filing complete, accurate, and timely EEI based on information obtained from the USPPI or other parties involved in the transaction. The authorized agent must file the EEI based on export information exactly as provided by the USPPI as set forth in Appendix C. The authorized agent shall retain documentation to support the export information reported to the AES as specified in § 30.10 and, upon request, provide the USPPI with a copy of the power of attorney or written authorization from the FPPI and the data elements filed that the USPPI provided as listed in Appendix C, along with the authorized agent name, authorized agent contact information, date of export, and ITN.

Note to paragraph (e)(2) of this section: The authorized agent should not report the information above without obtaining it from the USPPI directly. The authorized agent and parties to the transaction should have continuous communication to ensure accurate, complete, and timely information is reported.

* * * * *

5. Amend § 30.4 by

a. Revising paragraphs (b)(1) and (4);

b. Removing paragraph (b)(5);

c. Revising (c)(2); and

d. Adding paragraph (f).

The revisions and additions read as follows:

§ 30.4 Electronic Export Information filing procedures, deadlines, and certification statements.

* * * * *

(b) * * *

(1) For USML shipments, refer to the ITAR (22 CFR 123.22(b)(1)) for specific requirements concerning predeparture filing time frames.

* * * * *

(4) For used self-propelled vehicles as defined in 19 CFR 192.1 of U.S. Customs and Border Protection regulations, the USPPI or the authorized agent shall file the EEI as required by § 30.6 and provide the filing citation to the CBP at least 72 hours prior to export. The filer must also provide the carrier with the filing citation as required by paragraph (b) of this section.

(c) * * *

(2) Pipeline filing procedures. USPPIs or authorized agents may file data elements required by § 30.6 no later than four (4) calendar days following the end of the month. The operator of a pipeline may transport goods to a foreign country without the prior filing of the proof of filing citation, exemption, or exclusion legend, on the condition that within four (4) calendar days following the end of each calendar month the operator will deliver to the CBP Port Director the proof of filing citation, exemption, or exclusion legend covering all exports through the pipeline to each ultimate consignee during the month.

* * * * *

(f) Downtime procedures. The Downtime policy becomes effective when the Census Bureau has officially notified filers electronically that the AES and/or AESDirect are not operating and cannot generate ITNs.

(1) If the filer's transmission method to the AES (e.g., certified software) is unavailable, the filer must delay the export of the goods or find an available alternative filing method (e.g., AESDirect, authorized agent). The various AES filing methods include but are not limited to EDI Bulk Upload, AES WebLink, direct connection to AES via third party software or self-developed software. See § 30.5(f) for support.

(2) Except as noted in § 30.4(f)(3), if AES and/or AESDirect is unavailable, the goods may be exported, and the filer must: (A) Provide the appropriate downtime citation as described in § 30.7(b) and appendix B; and (B) Report the EEI at the first opportunity AES or AESDirect is available.

(3) For export shipments noted in § 30.2(a)(1)(iv), if a filer is unable to acquire an ITN because the AES and/or AESDirect is not operating, the filer shall not export until the AES is operating and an ITN is acquired, and the downtime filing citation shall not be used.

6. Amend § 30.5 by revising paragraphs (c)(3)(i)(E) and (F), (d)(1) and (2), and (f). The revisions read as follows:

§ 30.5 Electronic Export Information filing processes and standards.

* * * * *

(c) * * *

(3) * * *

(i) * * *

(E) The USPPI has failed to comply with existing export regulations or has failed to pay any outstanding penalties assessed in connection with such noncompliance;

(F) The USPPI would pose a significant threat to national security interests such that its continued participation in postdeparture filing should be terminated; or

* * * * *

(d) * * *

(1) AESDirect usernames and passwords are to be kept secure by the account administrator and not disclosed to any unauthorized user or any persons outside the registered company.

(2) Registered companies are responsible for those persons having a username and password. If an employee with a username and password leaves the company or otherwise is no longer an authorized user, the company shall immediately deactivate that username in the system to ensure the integrity and confidentiality of EEI.

* * * * *

(f) Support. The Census Bureau provides online services that allow the USPPI and the authorized agent to seek assistance pertaining to the AES and this part. For AES assistance, filers may send an email to askaes@census.gov. For FTR assistance, filers may send an email to emd.askregs@census.gov.

7. Amend § 30.6 by

a. Revising (a)(1), (a)(1)(ii) and (iii), (a)(3), (a)(4), (a)(11), (a)(13), (b)(2), (b)(4) through (6), and (b)(13); and

b. Removing (b)(17).

The revisions read as follows:

§ 30.6 Electronic Export Information data elements.

* * * * *

(a) * * *

(1) USPPI. The person in the United States that receives the primary benefit, monetary or otherwise, from the export transaction. See § 30.3(b)(2) for scenarios identifying the USPPI. The name, address of origin, identification number, and contact information of the USPPI shall be reported to the AES as follows:

* * * * *

(ii) Address of origin. In all EEI filings, the USPPI shall report the address of origin (no post office box number) from which the goods actually begin the journey to the port of export even if the USPPI does not own/lease the facility. For example, the EEI covering goods stored in inventory at a warehouse in Georgia for transport to Florida for loading onto a vessel for export to a foreign country shall show the address of origin of the warehouse in Georgia. For shipments of multi-addresses of origin, reported as a single shipment, report the address of origin of the commodity with the greatest value. If such information is not known, report the address of origin where the commodities are consolidated for export.

(iii) USPPI identification number. Report the Employer Identification Number (EIN) of the USPPI. If the USPPI has only one EIN, report that EIN. If the USPPI has more than one EIN, report the EIN that the USPPI uses to report employee wages and withholdings, and not the EIN used to report only company earnings or receipts. Use of another company's EIN is prohibited. If a USPPI reports a DUNS, the EIN is also required to be reported. If a foreign entity is in the United States at the time goods are purchased or obtained for export, the foreign entity is the USPPI. In such situations, when the foreign entity does not have an EIN, the authorized agent shall report a border crossing number, passport number, or any number assigned by U.S. Customs and Border Protection (CBP) on behalf of the foreign entity. The appropriate Party ID Type code shall be reported to the AES.

* * * * *

(3) Ultimate consignee. The ultimate consignee is the person located abroad as known at the time of export who receives the export shipment. The name and address of the ultimate consignee, whether by sale in the United States or abroad or by consignment, shall be reported in the EEI. For example, when there is knowledge of an end user's name, address and when the end user will receive the goods, the end user is the ultimate consignee. When the foreign buyer is a reseller/distributor and the end user's name and address is unknown or there is no knowledge when the end user will receive the goods from the foreign buyer, e.g., the goods are stored in inventory, the foreign buyer is the ultimate consignee. For goods sold en route, report the appropriate “To be Sold En Route” indicator in the EEI, and report corrected information as soon as it is known (see § 30.9 for procedures on correcting AES information).

(4) U.S. state of origin. The U.S. state of origin is the 2-character postal code for the state in which the goods begin their journey to the port of export. For example, the EEI covering goods stored in inventory at a warehouse in Georgia for transport to Florida for loading onto a vessel for export to a foreign country shall show GA as the state of origin. For shipments of multi-state origin, reported as a single shipment, report the U.S. state of the commodity with the greatest value. If such information is not known, report the state in which the commodities are consolidated for export.

* * * * *

(11) Domestic or foreign indicator. Indicates if the goods exported are of domestic or foreign origin. Report foreign goods as a separate line item from domestic goods even if the commodity classification number is the same. See § 30.1(c) for definitions of domestic and foreign goods.

* * * * *

(13) Commodity description. Report the description of the goods shipped in English in sufficient detail to permit verification of the Schedule B or HTSUSA number. Clearly and fully state the name of the commodity in terms that can be identified or associated with the language used in Schedule B or HTSUSA (usually the commercial name of the commodity), and any characteristics of the commodity that distinguish it from commodities of the same name covered by other Schedule B or HTSUSA classifications. If the shipment requires a license, the description reported in the EEI shall conform with that shown on the license. If the shipment is eligible for a license exception or exemption, the description shall be sufficient to ensure compliance with that license exception or exemption. However, where the description on the license does not state all of the characteristics of the commodity that are needed to completely verify the commodity classification number, as described in this paragraph, report the missing characteristics, as well as the description shown on the license, in the commodity description field of the EEI.

* * * * *

(b) * * *

(2) Intermediate consignee. The name and address of the intermediate consignee (if any) shall be reported. The intermediate consignee is the person located abroad and acts as an agent for the principal party in interest or the ultimate consignee and takes physical possession of the goods for the purpose of effecting delivery of goods to the ultimate consignee. The intermediate consignee may be a foreign forwarding agent or other person abroad who acts as an agent for a principal party in interest.

* * * * *

(4) Foreign port of unlading. The foreign port of unlading is the foreign port in the country where the goods are removed from the exporting conveyance. The foreign port does not have to be located in the country of ultimate destination. For exports by sea to foreign countries, not including Puerto Rico, the foreign port of unlading is the code contained in Schedule K, Classification of Foreign Ports by Geographic Trade Area and Country. For exports by sea or air between the United States and Puerto Rico, the foreign port of unlading is the code provided in Schedule D, Classification of CBP Districts and Ports. The foreign port of unlading is not required for exports by other modes of transportation, including rail, truck, mail, fixed (pipeline), or air (unless between the U.S. and Puerto Rico).

(5) Export license number/CFR citation/Kimberley Process Certificate (KPC) number. License number, permit number, citation, certificate number, or authorization number assigned by the Department of Commerce, BIS; Department of State, DDTC; Department of the Treasury, OFAC; Department of Justice, DEA; Nuclear Regulatory Commission; or any other federal government agency. For KPC, rough diamonds are classified under 6-digit HS subheadings 7102.10, 7102.21, and 7102.31. Enter the KPC number in the license number field excluding the 2-digit ISO country code for the United States.

(6) Export Control Classification Number (ECCN). The number used to identify items on the CCL, Supplement No. 1 to Part 774 of the EAR. The ECCN consists of a set of digits and a letter. Items that are not classified under an ECCN are designated “EAR99”. See § 758.1(g) of the EAR for ECCN reporting requirements.

* * * * *

(13) Entry number. The entry number must be reported when goods of foreign origin enter the United States for warehousing (entered into a bonded warehouse) or are admitted into a FTZ before being exported. For goods that are exported after entering the United States for consumption or warehousing, the 11-position entry number as identified on the CBP-7501 shall be reported. For goods that are exported from a FTZ, the 9-digit inbond serial number associated with the removal shall be reported. For all other scenarios where goods are exported after entering the United States for consumption, the 11-position entry number as identified on the CBP-7501 may be reported. When the importer of record on the import entry is the customs broker or foreign person, the customs broker shall provide the entry number to assist in the preparation of the EEI (See 15 CFR 30.3(b)(2) and the Note to paragraph § 30.3(b)(2)(iv)).

* * * * *

8. Amend § 30.8 by revising the introductory text. The revision reads as follows:

§ 30.8 Time and place for presenting proof of filing citations and exemption legends.

The following conditions govern the time and place to present the proof of filing, postdeparture, or downtime citations or exclusion or exemption legends. The USPPI or the authorized agent is required to deliver the proof of filing, postdeparture, or downtime citations or exclusion or exemption legends required in § 30.7 to the exporting carrier. See Appendix B of this part for the properly formatted proof of filing, postdeparture, or downtime citations and exclusion or exemption legends. Failure of the USPPI or authorized agent to comply with these requirements constitutes a violation of the regulations in this part and renders such principal party or the authorized agent subject to the penalties provided for in Subpart H of this part.

* * * * *

9. Amend § 30.10 by revising paragraph (a) and adding a Note to paragraph (a). The revision and addition read as follows:

§ 30.10 Retention of export information and the authority to require production of documents.

(a) Retention of export information. All parties to the export transaction (USPPIs, FPPIs, authorized agents, and/or owners and operators of export carriers) shall retain documents pertaining to the export shipment for five years from the date of export. If the Department of State or other regulatory agency has recordkeeping requirements for exports that exceed the retention period specified in this part, then those requirements prevail. The USPPI or the authorized agent may request a copy of the electronic record or submission from the Census Bureau as provided for in Subpart G of this part. The Census Bureau's retention and maintenance of AES records does not relieve filers from requirements in § 30.10.

Note to paragraph (a) of this section: As set forth in § 30.60(c)(4), the USPPI, the authorized agent, or a representative of the USPPI shall not disclose the EEI to a foreign person or foreign government, including the foreign entity as the USPPI or the FPPI. For items in this section, a foreign entity as the USPPI and the FPPI shall retain documents pertaining to the export shipment as a party to the export transaction; however, the EEI shall not be disclosed to a foreign person or foreign government either in whole or in part.

* * * * *

10. Amend § 30.17 by revising the introductory text. The revision reads as follows:

§ 30.17 Customs and Border Protection regulations.

Refer to the DHS's CBP regulations, 19 CFR part 192, for information referencing the advanced electronic submission of cargo information on exports for screening and targeting purposes pursuant to the Trade Act of 2002. The regulations also prohibit postdeparture filing of export information for certain shipments and contain other regulatory provisions affecting the reporting of EEI.

§ 30.18 [Amended]

11. Amend § 30.18 by removing paragraph (c).

12. Amend § 30.26 by revising paragraph (b).

The revision reads as follows:

§ 30.26 Reporting of vessels, aircraft, cargo vans, and other carriers and containers.

* * * * *

(b) The country of ultimate destination to be shown in the EEI for vessels exported for sale is the country of new ownership. The country for which the vessel clears, or the country of registry of the vessel, should not be reported as the country of ultimate destination in the EEI unless such country is the country of new ownership.

13. Amend § 30.29 by revising paragraphs (a)(1) and (2). The revisions read as follows:

§ 30.29 Reporting of repairs and replacements.

* * * * *

(a) * * *

(1) The return of goods not licensed by a U.S. Government agency and not subject to the ITAR, temporarily imported for repair and alteration, and declared as such on importation as described in § 30.53 shall have Schedule B number 9801.10.0000. The value reported shall be parts and labor, plus inland or domestic freight, insurance, and other charges to the U.S. seaport, airport, or land border port of export. The value of the original product shall not be included. If the value is over $2,500, then EEI must be filed.

(2) The return of goods licensed by a U.S. Government agency or subject to the ITAR, temporarily imported for repair or alteration, and declared as such on importation as described in § 30.53 shall have Schedule B number 9801.10.0000. In the value field, report the value of the parts and labor, plus inland or domestic freight, insurance, and other charges to the U.S. seaport, airport, or land border port of export. In the license value field, report the value designated on the export license that corresponds to the commodity being exported if required by the licensing agency. EEI must be filed regardless of value.

* * * * *

§ 30.36 [Amended]

14. Amend § 30.36 by removing paragraphs (b)(3) through (7).

15. Amend § 30.37 by revising paragraph (a).

The revision reads as follows:

§ 30.37 Miscellaneous exemptions.

* * * * *

(a) Exports of commodities where the value of the commodities shipped from one USPPI to one ultimate consignee on a single exporting conveyance classified under an individual Schedule B number or HTSUSA commodity classification code is $2,500 or less. This exemption applies to individual Schedule B numbers or HTSUSA commodity classification codes regardless of the total shipment value. In instances where a shipment contains a mixture of individual Schedule B numbers or HTSUSA commodity classification codes valued at $2,500 or less and individual Schedule B numbers or HTSUSA commodity classification codes valued over $2,500, only those Schedule B numbers or HTSUSA commodity classification codes valued over $2,500 are required to be reported. If the filer reports multiple items of the same Schedule B number or HTSUSA commodity classification code, this exemption only applies if the total value of exports for the Schedule B number or HTSUSA commodity classification code is $2,500 or less. Items of domestic and foreign origin under the same commodity classification number must be reported separately and EEI filing is required when either is over $2,500. For the reporting of household goods see § 30.38.

* * * * *

16. Amend § 30.39 by revising the introductory text. The revision reads as follows:

§ 30.39 Special exemptions for shipments to the U.S. Armed Services.

Except as noted in § 30.2(a)(1)(iv), filing of EEI is not required for any commodities, whether shipped commercially or through government channels, consigned to the U.S. Armed Services for their exclusive use, including shipments to armed services exchange systems. This exemption does not apply to articles that are on the USML and thus controlled by the ITAR and/or shipments that are not consigned to the U.S. Armed Services, regardless of whether they may be for their ultimate and exclusive use.

17. Amend § 30.51 by revising the introductory text. The revision reads as follows:

§ 30.51 Statistical information required for import entries.

The information required for statistical purposes is, in most cases, also required by CBP regulations for other purposes. Refer to the CBP website at cbp.gov to download “Instructions for Preparation of CBP-7501” for completing the entry summary documentation (CBP Form-7501). Refer to the Customs and Trade Automated Interface Requirements for instructions on submitting an Automated Commercial Environment (ACE) Automated Broker Interface (ABI) electronic record or instructions for completing CBP-226 for declaring any equipment, repair parts, materials purchased, or expense for repairs incurred outside of the United States.

18. Amend § 30.52 by revising the introductory text.

The revision reads as follows:

§ 30.52 Foreign Trade Zones (FTZ).

When goods are withdrawn from a FTZ for export to a foreign country, the export shall be reported in accordance with § 30.2. Foreign goods admitted into FTZs shall be reported as a general import. Statistical requirements for zone admissions are provided to the Census Bureau via CBP's ABI electronic 214 (e214) program or the CBP Form 214A Application for Foreign Trade Zone Admission and/or Status Designation. Refer to the CBP website at cbp.gov to download the “Foreign Trade Zone Manual” that includes the CBP Form 214—Application for FTZ Admission (Appendix A) and Instructions for filling out the 214 (Appendix B). When goods are withdrawn from a FTZ to be entered for consumption or entered into a bonded warehouse, the withdrawal from the FTZ shall be reported on CBP Form 7501 or through the appropriate entry documents, or their electronic equivalents, in accordance with CBP regulations. The instructions and definitions for completing the e214 are provided in 19 CFR 146. The following data items are required to be filed on Form 214A for statistical purposes:

* * * * *

19. Amend § 30.60 by revising paragraphs (b)(1)(vii), and (c)(1), (2), and (4).

The revisions read as follows:

§ 30.60 Confidentiality of Electronic Export Information.

* * * * *

(b) * * *

(1) * * *

(vii) Analyzing the impact of proposed and implemented trade agreements and fulfilling U.S. obligations under such agreements; and

* * * * *

(c) * * *

(1) Any purpose related to the collection of domestic or foreign taxes, or other fees, except as related to paragraph (b)(1)(vi) of this section.

(2) For export promotion or similar types of marketing operations. This limitation does not preclude the use of the information to monitor compliance with agricultural marketing orders and export quality compliance programs.

* * * * *

(4) To foreign persons or foreign governments for any purpose, including the foreign entity as the USPPI or the FPPI.

* * * * *

20. Amend § 30.61 by revising the introductory text and paragraphs (a) and (b).

The revisions read as follows:

§ 30.61 Statistical classification schedules.

The following statistical classification schedules are referenced in this part. These schedules may be accessed through the Census Bureau's website at http://www.census.gov/trade.

(a) Schedule B—Statistical Classification for Domestic and Foreign Commodities Exported from the United States shows the detailed commodity classification requirements and 10-digit statistical reporting numbers to be used in preparing EEI as required by these regulations.

(b) Harmonized Tariff Schedule of the United States shows the 10-digit statistical reporting number to be used in preparing import entries and withdrawal forms.

* * * * *

21. Amend § 30.71 by revising paragraph (a)(2).

The revision reads as follows:

§ 30.71 False or fraudulent reporting on or misuse of the Automated Export System.

(a) * * *

(2) Furtherance of illegal activities. Any person, including USPPIs, authorized agents, or carriers, who knowingly reports, directly or indirectly, to the U.S. Government any information through or otherwise uses the AES to further any illegal activity shall be subject to account deactivation, a fine not to exceed $10,000, imprisonment for not more than five years, or any or all of these penalties for each violation.

* * * * *

22. Amend § 30.74 by revising paragraphs (b)(4) and (d).

The revisions read as follows:

§ 30.74 Voluntary self-disclosure.

* * * * *

(b) * * *

(4) Any person, including USPPIs, authorized agents, or carriers, will not be deemed to have made a voluntary self-disclosure under this section unless the individual making the disclosure did so with the full knowledge and authorization of senior management. The Census Bureau will not accept a voluntary self-disclosure from a FPPI or legal counsel or other party representing a FPPI.

* * * * *

(d) Action by the Census Bureau. After the Census Bureau has been provided with the required narrative, it may promptly notify CBP, ICE, and BIS's Office of Export Enforcement (OEE) of the voluntary disclosure, acknowledge the disclosure by letter, provide the person making the disclosure with a point of contact, and take whatever additional action, including further investigation, it deems appropriate. As quickly as the facts and circumstances of a given case permit, the Census Bureau may take any of the following actions:

(1) Inform the person or company making the voluntary self-disclosure of the action to be taken.

(2) Issue a letter in response to the voluntary self-disclosure.

(3) Refer the matter, if necessary, to the OEE for the appropriate action.

23. Amend Appendix B to part 30 by revising the entries for “X. Miscellaneous Exclusion Statements” and “XI. Split Shipments”.

The revisions read as follows:

Appendix B to Part 30—AES Filing Citation, Exemption and Exclusion Legends

* * * * *

X. Miscellaneous Exclusion Statements are found in 15 CFR part 30 subpart A § 30.2(d) | NOEEI § 30.2(d) (site corresponding number).
XI. Split Shipments Split Shipments should be referenced as such on the manifest in accordance with provisions contained in § 30.28, Split Shipments. The notation should be easily identifiable on the manifest. It is preferable to include a reference to a split shipment in the exemption statements cited in the example, the notation “SS” should be included at the end of the appropriate exemption statement | AES ITN SS Example: AES X20170101987654 SS.

24. Add Appendix C to part 30.

Appendix C to Part 30—Party Responsibilities for Data Elements in Routed Export Transactions

Responsibility of the USPPI 30.3(e)(1) | Responsibility of the authorized agent 30.3(e)(2)
(A) Name, address of origin, contact name and contact phone of the USPPI [30.6(a)(1)] | (A) Date of export [30.6(a)(2)].
(B) USPPI identification number [30.6(a)(1)] | (B) Ultimate consignee [30.6(a)(3)].
(C) U.S. State of origin [30.6(a)(4)] | (C) Ultimate consignee type [30.6(a)(28)].
(D) Domestic or foreign indicator [30.6(a)(11)] | (D) Country of ultimate destination [30.6(a)(5)].
(E) Commodity classification number [30.6(a)(12)] | (E) Method of transportation [30.6(a)(6)].
(F) Commodity description [30.6(a)(13)] | (F) Conveyance name/carrier name [30.6(a)(7)].
(G) Primary unit of measure [30.6(a)(14)] | (G) Carrier identification [30.6(a)(8)].
(H) Primary quantity [30.6(a)(15)] | (H) Port of export [30.6(a)(9)].
(I) Value [30.6(a)(17)] | (I) Related party indicator [30.6(a)(10)].
(J) Export information code [30.6(a)(18)] | (J) Shipping weight [30.6(a)(16)].
(K) Hazardous material indicator [30.6(a)(21)] | (K) Shipment Reference Number [30.6(a)(19)].
(L) Inbond code [30.6(a)(22)] | (L) License code/license exemption code [30.6(a)(23)].
(M) License code/license exemption code [30.6(a)(23)] | (M) Routed export transaction indicator [30.6(a)(24)].
(N) FTZ identifier, if applicable. [30.6(b)(3)] | (N) Filing option indicator [30.6(a)(27)].
(O) Export license number/CFR citation/KPC number, if applicable. [30.6(b)(5)] | (O) Authorized agent and authorized agent identification [30.6(b)(1)].
(P) Export Control Classification Number (ECCN), if applicable. [30.6(b)(6)] | (P) Intermediate consignee, if applicable. [30.6(b)(2)].
(Q) Secondary units of measure, if applicable. [30.6(b)(7)] | (Q) Foreign port of unlading, if applicable. [30.6(b)(4)].
(R) Secondary quantity, if applicable. [30.6(b)(8)] | (R) Export license number/CFR citation/KPC number, if applicable. [30.6(b)(5)].
(S) Vehicle Identification Number (VIN)/Product ID, if applicable. [30.6(b)(9)] | (S) Transportation Reference Number, if applicable. [30.6(b)(14)].
(T) Vehicle ID qualifier, if applicable. [30.6(b)(10)] | (T) License value, if applicable. [30.6(b)(15)].
(U) Vehicle title number, if applicable. [30.6(b)(11)] |
(V) Vehicle title state code, if applicable. [30.6(b)(12)] |
(W) Entry number, if applicable. [30.6(b)(13)] |
(X) License value, if applicable. [30.6(b)(15)] |

Note to Appendix C: For the License code/license exemption code, Export license number/CFR citation/KPC number, Export Control Classification Number (ECCN), and License value where the FPPI has assumed responsibility for determining and obtaining license authority, see requirements set forth in 15 CFR 758.3 of the EAR. When accessing routed export transactions reported on the EEI in AES, the USPPI will be limited to viewing in an AES report in ACE only the data elements in Appendix C, Date of export, Filer ID, the ITN, and any approved system generated data elements.

Ron Jarmin, Acting Director, Census Bureau, approved the publication of this notice in the Federal Register.

Dated: August 11, 2025.
Shannon Wink,
Program Analyst, Policy Coordination Office, U.S. Census Bureau.

[FR Doc. 2025-15493 Filed 8-13-25; 8:45 am]

BILLING CODE 3510-07-P